DEPARTMENT OF EDUCATION

Office of Elementary and Secondary Education; Overview Information; Striving Readers; Notice Inviting Applications for New Awards for Fiscal Year (FY) 2009

AGENCY: Department of Education.

ACTION: Notice.

Catalog of Federal Domestic Assistance (CFDA) Number: 84.371A.

Dates:

Applications Available: June 11, 2009.

Deadline for Notice of Intent To Apply: July 1, 2009.

Date of Pre-Application Meeting: The application package on the Striving Readers Web site at http://www.ed.gov/programs/strivingreaders/index.html includes specific dates and times for technical assistance workshops that will instruct applicants in completing the application package.

Deadline for Transmittal of Applications: August 10, 2009.

Full Text of Announcement

I. Funding Opportunity Description

Purpose of Program: The purposes of the Striving Readers program are to raise the literacy levels of adolescent students in schools that are eligible for assistance under Title I, Part A of the Elementary and Secondary Education Act of 1965, as amended (ESEA), and that enroll significant numbers of students reading below grade level and to build a strong, scientific research base for identifying and replicating strategies that improve adolescent literacy instruction.

Priorities: These priorities are from the notice of final priorities, requirements, definitions, and selection criteria for this program, published elsewhere in this issue of the Federal Register.

Absolute Priorities: For FY 2009 and any subsequent year in which we make awards from the list of unfunded applicants from this competition, these priorities are absolute priorities. Under 34 CFR 75.105(c)(3) we consider only applications that meet these priorities.

These priorities are:

Absolute Priority 1—Supplemental Literacy Intervention for Struggling Readers in Middle and High School Grades

To be eligible for consideration under this priority, an applicant must propose to implement a supplemental literacy intervention during the second, third, and fourth years of the project period that—

(a) Will be provided to struggling readers (as defined elsewhere in this notice) in any of grades 6 through 12 in no fewer than 5 eligible schools;

(b) Supplements the regular English language arts instruction students receive;

(c) Provides instruction exclusively or primarily during the regular school day, but that may be augmented by after-school instruction;

(d) Is at least one full school year in duration;

(e) Includes the use of a nationally normed, reliable, and valid screening reading assessment (as defined elsewhere in this notice) to identify struggling readers;

(f) Includes the use of a nationally normed, reliable, and valid diagnostic reading assessment (as defined elsewhere in this notice) to pinpoint students' instructional needs;

(g) Uses a research-based literacy model that is flexible enough to meet the varied needs of struggling readers, is intense enough to accelerate the development of literacy skills, and includes, at a minimum, the following practices:

(1) Explicit vocabulary instruction.

(2) Direct and explicit comprehension strategy instruction.

(3) Opportunities for extended discussion of text meaning and interpretation.

(4) Instruction in reading foundational skills, such as decoding and fluency (for students who need to be taught these skills).

(5) Course content intended to improve student motivation and engagement in literacy learning.

(6) Instruction in writing; and

(h) Has been implemented in at least one school in the United States during the preceding five years.

Absolute Priority 2—Rigorous and Independent Evaluation

To be eligible for consideration under this priority, an applicant must propose to support a rigorous experimental evaluation of the effectiveness of the supplemental literacy intervention it implements under Priority 1 (Supplemental Literacy Intervention for Struggling Readers in Middle and High School Grades) during the second, third, and fourth years of the project that will—

(a) Be carried out by an independent evaluator whose role in the project is limited solely to conducting the evaluation;

(b) Use a random lottery to assign eligible struggling readers in each school in the project either to the supplemental literacy intervention or to other activities in which they would otherwise participate, such as a study hall, electives, or another activity that does not involve supplemental literacy instruction;

(c) Include rigorous and appropriate procedures to monitor the integrity of the random assignment of students, minimize crossover and contamination between the treatment and control groups, and monitor, document, and, where possible, minimize student attrition from the sample;

(d) Measure outcomes of the supplemental literacy intervention using, at a minimum:

(1) The reading language arts assessment used by the State to determine whether a school has made adequate yearly progress under part A of title I of the ESEA.

(2) A nationally normed, reliable, and valid outcome reading assessment (as defined elsewhere in this notice) that is closely aligned with the literacy skills targeted by the supplemental literacy intervention;

(e) Use rigorous statistical models to analyze the impact of the supplemental literacy intervention on student achievement, including the use of students' prior-year test scores as a covariate in the model to improve statistical precision and also including appropriate statistical techniques for taking into account the clustering of students within schools;

(f) Include an analysis of the fidelity of implementation of the critical features of the supplemental literacy intervention based on data collected by the evaluator;

(g) Include measures designed to ensure that the evaluator obtains high response rates to all data collections;

(h) Include no fewer than 750 struggling readers per year in all of the schools and grades served by the supplemental literacy intervention. To meet the eligibility requirements, an applicant with 5 schools would need an average of 150 struggling readers in all grades served by the intervention per school. An applicant with 10 schools would also meet the eligibility requirements if each school had 75 struggling readers in all grades served by the intervention; and

(i) Be designed to detect not less than a 0.10 standard deviation impact of the supplemental literacy intervention on student achievement, which represents approximately 3 to 5 months of growth in reading achievement on standardized assessments for the typical student in grades 6 through 12.

Application Requirements: To be considered for an award under this competition, an applicant must include in its application the following evidence with respect to the supplemental literacy intervention it proposes to implement and evaluate:

(a) Evidence that the supplemental literacy intervention has been implemented in at least one school in the United States during the preceding five years.

(b) A one-page logic model that shows a clear, logical pathway leading from the project inputs and activities, through classroom instruction, to the expected impacts on students.

(c) The nationally normed, reliable, and valid screening, diagnostic, and outcome reading assessments (as these reading assessments are defined elsewhere in this notice) of student literacy skills that the applicant would use to inform the identification of struggling readers and the content of their instruction, and to evaluate the effectiveness of the supplemental literacy intervention.

Program Definitions: The following definitions apply to this program:

Diagnostic reading assessment means an assessment that is—

(a) Valid, reliable, and based on scientifically based reading research; and

(b) Used for the purpose of—

(1) Identifying a child's specific areas of strength and weakness;

(2) Determining any difficulties that a child may have in learning to read and the potential cause of such difficulties; and

(3) Helping to determine possible reading intervention strategies and related special needs.

Eligible school means a school that—

(a) Is eligible to receive funds under part A of title I of the ESEA, pursuant to section 1113 of the ESEA;

(b) Serves students in any of grades 6 through 12; and

(c) Enrolled not fewer than 75 students in the grades that will be served by the supplemental literacy intervention during the 2007-08 and 2008-09 school years (or in the two most recent years for which data are available) whose reading skills were two or more years below grade level.

Outcome reading assessment means an assessment that is—

(a) Valid, reliable, and nationally normed;

(b) Closely aligned with the literacy skills targeted by the supplemental literacy intervention; and

(c) Used for the purpose of—

(1) Measuring student reading achievement; and

(2) Evaluating the effectiveness of the supplemental literacy intervention.

Screening reading assessment means an assessment that is—

(a) Valid, reliable, and based on scientifically based reading research; and

(b) A brief procedure designed as a first step in identifying children who may be at high risk for delayed development or academic failure and in need of further diagnosis of their need for special services or additional literacy instruction.

Struggling readers means readers who—

(a) Have only partial mastery of the prerequisite knowledge and skills that are fundamental for reading at grade level; and

(b) Are reading two or more grades below grade level when measured on an initial screening reading assessment.

Program Authority: 20 U.S.C. 6492.

Applicable Regulations: (a) The Education Department General Administrative Regulations (EDGAR) in 34 CFR parts 74, 75, 77, 79, 80, 81, 82, 84, 85, 86, 97, 98, and 99. (b) The notice of final priorities, requirements, definitions, and selection criteria, published elsewhere in this issue of the Federal Register.

Note: The regulations for this program in 34 CFR part 79 apply to all applicants except Federally recognized Indian Tribes.

II. Award Information

Type of Award: Cooperative agreement.

Estimated Available Funds: $7.2 million.

Contingent upon the availability of funds and the quality of applications, we may make additional awards in FY 2010 from the list of unfunded applicants from this competition.

Estimated Range of Awards: $750,000-$1.3 million.

Estimated Average Size of Awards: $1 million.

Estimated Number of Awards: 7.

Note: The Department is not bound by any estimates in this notice.

Project Period: Up to 48 months. During the first several months of the project period, the Department will provide technical assistance for evaluators and project directors in planning for implementation and evaluation of the supplemental literacy intervention. Evaluators and project directors will cooperate with the Department and the technical assistance provider in preparing for full implementation in school year 2010-11 by completing a series of plans for randomizing students, tracking students, screening students for placement, collecting data, providing professional development, and planning for other crucial processes identified by the technical assistance provider.

III. Eligibility Information

1. Eligible Applicant: A State educational agency (SEA) that applies on behalf of itself and one or more LEAs, including charter schools considered to be LEAs in accordance with State law, that have governing authority over the eligible schools (as defined elsewhere in this notice) that the applicant proposes to include in the project.

To be considered for an award under this competition, an eligible applicant must include in the application the following with respect to each school it proposes to include in the project:

(a) The school's name, location, and enrollment disaggregated by grade level for the 2008-09 school year.

(b) State or other assessment data that demonstrate that, during each of the 2007-08 and 2008-09 school years (or the most recent two years for which data are available), a minimum of 75 students in the grades to be served by the supplemental literacy intervention were struggling readers (as defined elsewhere in this notice).

(c) Evidence that the school is eligible to receive funds under part A of title I of the ESEA, pursuant to section 1113 of the ESEA.

(d) A letter from the superintendent of the LEA that has governing authority over the school and the principal of the school that they—

(1) Agree to implement the proposed supplemental literacy intervention during the 2010-11, 2011-12, and 2012-13 school years, adhering strictly to the design of the intervention;

(2) Agree to allow eligible struggling readers to be randomly assigned (by lottery) to either the supplemental literacy intervention curriculum or to other activities in which they would otherwise participate, such as a study hall, electives, or other activity that does not involve supplemental reading instruction; and

(3) Agree to participate in the evaluation, including in the evaluator's collection of data on student outcomes and program implementation.

2. Cost Sharing or Matching: This program does not require cost sharing or matching.

IV. Application and Submission Information

1. Address To Request Application Package

You can obtain an application package via the Internet or from the Education Publications Center (ED Pubs). To obtain a copy via the Internet, use the following address: http://www.ed.gov/programs/strivingreaders/index.html. To obtain a copy from ED Pubs, write, fax, or call the following: Education Publications Center, P.O. Box 1398, Jessup, MD 20794-1398. Telephone, toll free: 1-877-433-7827. Fax: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify this program or competition as follows: CFDA 84.731A.

Individuals with disabilities can obtain a copy of the application package in an accessible format (e.g., braille, large print, audiotape, or computer diskette) by contacting the program contact person listed in this section.

2. Content and Form of Application Submission

Requirements concerning the content of an application, together with the forms you must submit, are in the application package for this competition.

Page Limit: The application narrative (Part III) is where you, the applicant, address the selection criteria that reviewers use to evaluate your application. You must limit the application narrative (Part III) to no more than 40 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III). We further encourage applicants to limit resumes to no more than three pages and all other attachments or appendices to no more than 20 pages.

Our reviewers will not read any pages of your application that exceed the page limit.

3. Submission Dates and Times

Applications Available: June 11, 2009.

Deadline for Notice of Intent To Apply: We will be able to develop a more efficient process for reviewing grant applications if we have a better understanding of the number of applications we will receive. Therefore, we strongly encourage each potential applicant to send an e-mail notice of its intent to apply for funding by July 1, 2009. The notice of intent to apply is optional; you may still submit an application if you have not notified us of your intention to apply. Send the e-mail to: StrivingReaders@ed.gov.

Date of Pre-Application Meeting: The application package on the Striving Readers Web site at http://www.ed.gov/programs/strivingreaders/index.html includes specific dates and times for technical assistance workshops that will instruct applicants in completing the application package. Instructions in the form of a PowerPoint and Frequently Asked Questions will also be available on the Striving Readers Web site.

Deadline for Transmittal of Applications: August 10, 2009.

Applications for grants under this competition may be submitted electronically using the Electronic Grant Application System (e-Application), accessible through the Department's e-Grants site or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review

This program is subject to Executive Order 12372 and the regulations in 34 CFR part 79. Information about Intergovernmental Review of Federal Programs under Executive Order 12372 is in the application package for this competition.

5. Funding Restrictions

We reference regulations outlining funding restrictions in the Applicable Regulations section of this notice.

6. Other Submission Requirements

Applications for grants under this competition may be submitted electronically or in paper format by mail or hand delivery.

a. Electronic Submission of Applications

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgement of you submission, you may submit your application in paper format by mail or hand delivery in accordance with the instructions in this notice.

b. Submission of Paper Applications by Mail

If you submit your application in paper format by mail (through the U.S. Postal Service or a commercial carrier), you must mail the original and two copies of your application, on or before the application deadline date, to the Department at the following address: U.S. Department of Education, Application Control Center, Attention: (CFDA Number 84.371A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.371A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from the notice of final priorities, requirements, definitions, and selection criteria, published elsewhere in this issue of the Federal Register, and are as follows:

(a) Significance. (10 points)

(1) The potential contribution of the project to the development and advancement of theory, research, and practices in the field of adolescent literacy, including—

(i) In the case of a supplemental literacy intervention that has not been evaluated through a large-scale experimental evaluation, the extent to which other empirical evidence (such as smaller-scale experimental or quasi-experimental studies of the effects of the intervention on student achievement) demonstrates that the intervention is likely to be effective in improving the reading skills of struggling readers; or

(ii) In the case of a supplemental literacy intervention that has been evaluated by one or more large-scale experimental evaluations, the extent to which those evaluations provide evidence that demonstrates that the intervention is likely to be effective in improving the reading skills of struggling readers and that the proposed evaluation would increase substantially knowledge in the field of adolescent literacy, such as by studying the effectiveness of the intervention among a different population than studied in previous experimental evaluations or by using an improved evaluation design (such as one that has a marked increase in statistical power).

(2) The extent to which the proposed supplemental literacy intervention can be replicated in a variety of settings without significant modifications.

(b) Project Design. (50 points)

(1) The extent to which the supplemental literacy intervention uses a research-based literacy model that is flexible enough to meet the varied needs of struggling readers, is intense enough to accelerate the development of literacy skills, and includes, at a minimum, the following practices (20 points):

(i) Explicit vocabulary instruction;

(ii) Direct and explicit comprehension strategy instruction;

(iii) Opportunities for extended discussion of text meaning and interpretation;

(iv) Instruction in reading foundational skills, such as decoding and fluency (for students who need to be taught these skills);

(v) Course content designed to improve student motivation and engagement in literacy learning; and

(vi) Instruction in writing.

(2) The extent to which the professional development model proposed for the project has sufficient intensity (in terms of the number of hours or days) (10 points).

(3) The extent to which the provider of the professional development identified in the application has the appropriate experience and knowledge to provide high-quality professional development (10 points).

(4) The extent to which the proposed project uses nationally normed, valid, and reliable screening reading assessments for screening struggling readers, diagnostic reading assessments for identifying individual student needs, and outcome assessments for evaluating the effectiveness of the supplemental literacy intervention. (10 points)

(c) Project Evaluation. (40 points)

(1) The extent to which the evaluation plan includes data from the reading/English language arts assessment used by the State to measure adequate yearly progress under part A of title I of the ESEA and from a second, evaluator-administered, nationally normed, reliable, and valid measure of student reading achievement that is closely aligned with the goals of the intervention (8 points).

(2) The extent to which the evaluation plan describes an objective and appropriate method for the independent evaluator to conduct random assignment of students to treatment and control conditions; rigorous and appropriate methods for monitoring the integrity of random assignment and for minimizing crossover and contamination between the treatment and control groups; and rigorous and appropriate methods for monitoring, documenting, and, where possible, minimizing, student attrition from the sample (8 points).

(3) The extent to which the evaluation plan includes a clear, well-documented, and rigorous method for measuring the fidelity of implementation of the critical features of the intervention (8 points).

(4) The extent to which the evaluation plan describes rigorous statistical procedures for the analysis of the data that will be collected, including (4 points):

(i) A clear discussion of the relationship between hypotheses, measures, and independent and dependent variables.

(ii) Appropriate statistical techniques for taking into account the clustering of students within schools.

(iii) The use of data on students' achievement in prior years as a covariate to improve statistical precision.

(iv) In the case of qualitative data analyses, the use of appropriate and rigorous methods to index, summarize, and interpret data.

(5) The extent to which the independent evaluator identified in the application has experience in conducting scientifically based reading research and in designing and conducting experimental evaluations (8 points).

(6) The extent to which the proposed budget allocates sufficient funds to carry out a high-quality evaluation of the proposed project (4 points).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Secretary has established the following two measures for evaluating the overall effectiveness of the Striving Readers program: (1) The percentage of adolescent students reading significantly below grade level who demonstrate a gain in their reading achievement, at a minimum of one grade level or its equivalent, after participating in an intensive intervention over an academic year; and (2) the percentage of students in schools participating in the Striving Readers program who score at or above proficient on the State's assessment in reading/language arts.

VII. Agency Contact

For Further Information Contact: Marcia J. Kingman, U.S. Department of Education, 400 Maryland Avenue, SW., Room 3E106, Washington, DC 20202-6400. Telephone: (202) 401-0003 or by e-mail: Marcia.Kingman@ed.gov.

If you use a TDD, call the Federal Relay Service, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education, to perform the functions of the Assistant Secretary for Elementary and Secondary Education.

Dated: June 5, 2009.
Joseph C. Conaty,
Director, Academic Improvement and Teacher Quality Programs.

[FR Doc. E9-13755 Filed 6-10-09; 8:45 am]

BILLING CODE 4000-01-P